DEPARTMENT OF LABOR

Employment and Training Administration

[TA-W-38,436]

United States Leather, Lackawanna Leather, El Paso, Texas, Including Leased Workers of Temporary Alternatives, Inc. d/b/a Snelling Temporaries Employed at United States Leather, Lackawanna Leather, El Paso, Texas; Amended Certification Regarding Eligibility to Apply for Worker Adjustment Assistance

In accordance with Section 223 of the Trade Act of 1974 (19 U.S.C. 2273) the Department of Labor issued a Certification of Eligibility to Apply for Worker Adjustment Assistance on December 20, 2000, applicable to workers of United States Leather, Lackawanna Leather, including leased workers of Snelling Personnel Services, El Paso, Texas. The notice will be published soon in the Federal Register.

At the request of the State agency, the Department reviewed the certification for workers of the subject firm. New findings show that the Department incorrectly identified the subject firm title name in its entirety. The Department is amending the certification determination to correctly identify the subject firm title name to read “United States Leather, Lackawanna Leather, including leased workers of Temporary Alternatives, Inc., d/b/a Snelling Temporaries”.

The amended notice applicable to TA-W-38,436 is hereby issued as follows:

All workers of United States Leather, Lackawanna Leather, El Paso, Texas, including leased workers of Temporary Alternatives, Inc. d/b/a Snelling Temporaries, El Paso, Texas engaged in employment related to the production of leather hides used for the production of car seats at United States Leather, Lackawanna Leather, El Paso, Texas who became totally or partially separated from employment on or after December 1, 1999 through December 20, 2002 are eligible to apply for adjustment assistance under Section 223 of the Trade Act of 1974.

Signed at Washington, DC, this 5th day of January, 2001.
Linda G. Poole,
Certifying Officer, Division of Trade Adjustments Assistance.

[FR Doc. 01-1892 Filed 1-22-01; 8:45 am]

BILLING CODE 4510-30-M